TENNESSEE VALLEY AUTHORITY

Supplemental Environmental Impact Statement: Bellefonte Conversion Project

AGENCY: Tennessee Valley Authority.

ACTION: Notice of intent.

SUMMARY: The Tennessee Valley Authority (TVA) will prepare a supplemental environmental impact statement (SEIS) for the construction and operation of an integrated gasification combined cycle (IGCC) power plant by partially converting the Bellefonte Nuclear Plant (BLN) site in Jackson County, Alabama. The primary fuels for the proposed IGCC plant would be coal and petroleum coke. The plant would supply baseload capacity to the TVA electrical generation system to meet growing power demands. The SEIS will supplement the final environmental impact statement (FEIS) that TVA completed in 1997 on options for converting the Bellefonte facility to a fossil-fueled power plant. One of the options considered in the 1997 FEIS was an IGCC plant. The current proposed action differs from the 1997 proposed action in the extent to which the unfinished BLN would be converted to a fossil-based facility. The 1997 proposed action was for the full conversion of BLN, while the current proposed action would result in the partial conversion of BLN. Public comment is invited concerning both the scope of the SEIS and environmental issues that should be addressed in the SEIS.

DATES: Comments on the scope of the SEIS must be postmarked or e-mailed no later than May 7, 2001, to ensure consideration.

ADDRESSES: Written comments or e-mails on the scope of issues to be addressed in the SEIS should be sent to Charles P. Nicholson, Senior Specialist, National Environmental Policy Act, Environmental Policy and Planning, Tennessee Valley Authority, 400 West Summit Hill Drive WT 8C, Knoxville, Tennessee 37902-1499 (e-mail: cpnicholson@tva.gov).

FOR FURTHER INFORMATION CONTACT: Charles P. Nicholson, Tennessee Valley Authority, 400 West Summit Hill Drive WT 8C, Knoxville, Tennessee 37902-1499 (email: cpnicholson@tva.gov).

SUPPLEMENTARY INFORMATION:

Background

In 1988, TVA halted and deferred completion of BLN because TVA power system requirements grew more slowly than projected. In December 1994, the TVA Board announced that Bellefonte would not be completed as a nuclear plant without a partner to share investment and operating risk, and put further construction activities on hold until a comprehensive review of TVA's power needs was completed. This comprehensive review, known as Energy Vision 2020—Integrated Resource Plan and Environmental Impact Statement, was completed in December 1995. One of the recommendations in Energy Vision 2020 was a reiteration of the decision to not complete Bellefonte as a nuclear plant without a partner.

The short-term action plan in Energy Vision 2020 included the recommendation to convert the unfinished BLN to a fossil-fueled power plant. The analysis of this conversion is contained in TVA's 1997 Final Environmental Impact Statement for the Bellefonte Conversion Project. The conversion options analyzed were a pulverized coal plant, a natural gas combined cycle plant, an IGCC plant, an IGCC plant with chemical coproduction, and a combination natural gas/IGCC plant with chemical coproduction. TVA's preferred conversion option was a natural gas combined cycle plant producing about 2,400 megawatts of electricity. TVA has not yet made a decision on the Bellefonte conversion project.

The completion of Bellefonte Units 1 and 2 in partnership with the Department of Energy (DOE) was subsequently considered in DOE's 1999 Final Environmental Impact Statement for the Production of Tritium in a Commercial Light Water Reactor. TVA formally adopted DOE's EIS in accordance with Council of Environmental Quality and TVA National Environmental Policy Act procedures. DOE subsequently chose to use TVA's completed light water reactors for tritium production and not partner with TVA to complete BLN.

Under the medium electrical load growth forecast in Energy Vision 2020, TVA expected that an additional 6,250 megawatts of energy resources would be needed by 2005. TVA has completed several projects to meet this demand and has others underway. The proposed IGCC plant would further help TVA meet this demand.

Proposed Action

TVA proposes to enter into agreements under which an IGCC plant would be built and operated at TVA's BLN site. The plant would generate about 1500 megawatts of baseload electricity and begin commercial operation in four to six years. The plant would utilize portions of the existing raw water intake, plant cooling facilities, and electrical switchyard on the Bellefonte site.

The primary fuel would be Illinois Basin coal delivered by barge. The use of petroleum coke as a fuel will also be considered. TVA would construct and operate a barge unloading facility on the adjacent Tennessee River. Two options for the startup fuel will be considered, natural gas and fuel oil. Fuel oil would be delivered to the site by barge and stored in an onsite facility. Natural gas service to the site does not presently exist, and its selection as the backup fuel would require the construction of a pipeline to connect the site with a gas supply.

Proposed Issues To Be Addressed

The environmental and socioeconomic resources at and in the vicinity of the Bellefonte site were described in the 1997 FEIS. The description of these resources was updated in DOE's 1999 FEIS for tritium production that TVA subsequently adopted. These descriptions will be further updated in the SEIS. The SEIS will evaluate the potential impacts of constructing and operating the proposed IGCC plant on air quality, water quality, aquatic and terrestrial ecology, endangered and threatened species, wetlands, aesthetics and visual resources, noise, land use, historic and archaeological resources, and socioeconomic resources. Other issues raised during scoping will also be considered.

Alternatives

The 1997 FEIS evaluated two alternatives. The no action alternative was the continued deferral of BLN for its potential completion with a partner. The action alternative was the conversion of Bellefonte to one of the five types of fossil-fueled plants listed above. The current IGCC proposal will be presented as an action alternative, and the SEIS will compare its potential impacts with those of the alternatives evaluated in the 1997 FEIS.

Scoping Process

Scoping, which is integral to the NEPA process, is a procedure that solicits public input to the EIS process to ensure that: (1) Issues are identified early and properly studied; (2) issues of little significance do not consume substantial time and effort; (3) the draft EIS is thorough and balanced; and (4) delays caused by an inadequate EIS are avoided. TVA's NEPA procedures require that the scoping process commence soon after a decision has been reached to prepare an EIS in order to provide an early and open process for determining the scope and for identifying the significant issues related to a proposed action. The scope of alternatives and issues to be addressed in the draft SEIS will be determined from written comments received from the public by mail or e-mail, internal agency scoping, and comments received from other agencies.

Agencies expected to participate in the discussions on the SEIS include the U.S. Army Corps of Engineers, U.S. Fish and Wildlife Service, various state of Alabama agencies including the Department of Environmental Management, and other federal, state, and local agencies as appropriate. The identification in this notice of reasonable alternatives and environmental issues is not meant to be exhaustive or final.

The public is invited to submit written comments or e-mail comments on the scope of this SEIS no later than the date given under the DATES section of this notice.

Upon consideration of the scoping comments, TVA will develop alternatives and identify important environmental issues to be addressed in the SEIS. Following analysis of the environmental consequences of the alternatives, TVA will prepare a draft SEIS for public review and comment. Notice of availability of the draft SEIS will be published in the Federal Register. The notice will solicit written comments on the draft SEIS, and information about a public meeting to comment on the draft SEIS will be announced by TVA. TVA expects to release a final SEIS by December 2001.

Dated: April 3, 2001.
Kathryn J. Jackson,
Executive Vice President, River System Operations & Environment.

[FR Doc. 01-8851 Filed 4-10-01; 8:45 am]

BILLING CODE 8120-08-U